DEPARTMENT OF LABOR

Employee Benefits Security Administration

Technical Correction of the Caption for Prohibited Transaction Exemption (PTE) 2010-27, Involving the Finishing Trades Institute of the Mid-Atlantic Region (the Plan)

AGENCY: Employee Benefits Security Administration, Department of Labor (the Department).

ACTION: Notice of technical correction.

In the September 16, 2010 issue of the Federal Register, the Department published PTE 2010-27 (at 75 FR 56568). PTE 2010-27 is an administrative exemption for the Plan from the prohibited transaction provisions of the Employee Retirement Income Security Act of 1974, as amended.

The operative language of PTE 2010-27, which begins at the top of the first column of page 56568 of the September 16, 2010 issue of the Federal Register after the boldface heading “Exemption,” was not preceded by a caption that indicated the prohibited transaction exemption number. To correct the publication error for PTE 2010-27, the present caption before the boldface heading “Exemption” at the top of the column on page 56568 should be replaced with a new caption to read as follows:

The Finishing Trades Institute of the Mid-Atlantic Region (the Plan), Located in Philadelphia, Pennsylvania [Prohibited Transaction Exemption 2010-27; Exemption Application No. L-11609]

FOR FURTHER INFORMATION CONTACT: Mr. Brian Shiker of the Department at (202) 693-8552. (This is not a toll-free number.)

Signed at Washington, DC, this 21st day of September, 2010.
Ivan L. Strasfeld,
Director of Exemption Determinations, Employee Benefits Security Administration, U.S. Department of Labor.

[FR Doc. 2010-23931 Filed 9-23-10; 8:45 am]

BILLING CODE 4510-29-P